DEPARTMENT OF HOMELAND SECURITY

Citizenship and Immigration Services

[CIS No. 2336-04]

SES Performance Review Board

AGENCY: Citizenship and Immigration Services, DHS.

ACTION: Notice.

SUMMARY: This notice announces the appointment of the members of the U.S. Citizenship and Immigration Services (USCIS) Performance Review Board (PRB). The purpose of the PRB is to review and make recommendations concerning proposed performance appraisals, ratings, bonuses, pay adjustments, and other appropriate personnel actions for incumbents of Senior Executive Service (SES) positions for which the Director, USCIS, is the appointing authority. The Board will perform PRB functions for other Department of Homeland Security (DHS) SES positions if requested.

DATES: This notice is effective November 5, 2004.

FOR FURTHER INFORMATION CONTACT: Ms. Kathleen T. Hochman, Human Capital Officer, USCIS, Office of Administration, 20 Massachusetts Avenue, NW., Room 1016, Washington, DC 20529. Telephone (202) 272-1330.

SUPPLEMENTARY INFORMATION: Title 5 U.S.C. 4314(c) requires each federal agency to establish one or more performance review boards to make recommendations, as necessary, in regard to the performance of senior executives within the agency. This notice announces the appointment of the members of the PRB for USCIS.

This notice does not constitute a significant regulatory action as are defined under section 3(f) of Executive Order 12866. Therefore, DHS has not submitted this notice to the Office of Management and Budget.

Further, because this notice is a matter of agency organization, procedure and practice, DHS is not required to follow the rulemaking requirements under the Administrative Procedure Act (5 U.S.C. 553).

Composition of USCIS PRB: The USCIS Performance Board shall consist of at least three members. In the case of an appraisal of a career appointee, more than half of the members shall consist of career appointees. The names and titles of the PRB members from USCIS are as follows: Joseph D. Cuddihy, Director, International Operations; David R. Howell, Deputy Chief, Policy and Strategy; Janis A. Sposato, Deputy Associate Director of Operations; and William R. Yates, Associate Director of Operations.

Dated: October 28, 2004.
Eduardo Aguirre,
Director, U.S. Citizenship and Immigration Services.

[FR Doc. 04-24716 Filed 11-4-04; 8:45 am]

BILLING CODE 4410-10-P